FEDERAL RETIREMENT THRIFT INVESTMENT BOARD

Sunshine Act; Notice of Board Member Meeting

Federal Retirement Thrift Investment Board, 77 K Street NE., 10th Floor Board Room, Washington, DC 20002.

Agenda

Federal Retirement Thrift Investment Board Member Meeting, April 24, 2017, 8:30 a.m. (In-Person).

Open Session

1. Approval of the Meeting Minutes for the March 27, 2017 Board Member Meeting

2. Monthly Reports

(a) Participant Activity Report

(b) Legislative Report

3. Quarterly Reports

(c) Investment Performance

(d) Audit Status

4. Annual Financial Audit—CLA

5. DOL Presentation

6. Consolidated IT/Audit Activities

7. OCFO Annual Report and Budget Review

8. Internal Audit

Closed Session

Information covered under 5 U.S.C. 552b(c)(9)(B).

Adjourn

Kimberly Weaver, Director, Office of External Affairs, (202) 942-1640.

Dated: April 12, 2017.
Megan Grumbine,
Secretary, Federal Retirement Thrift Investment Board.

[FR Doc. 2017-07747 Filed 4-12-17; 4:15 pm]

BILLING CODE 6760-01-P